FEDERAL COMMUNICATIONS COMMISSION

47 CFR Part 90

[WP Docket No. 07-100; FCC 23-3; FR ID 261942]

Improving Public Safety Communications in the 4.9 GHz Band

AGENCY: Federal Communications Commission.

ACTION: Final rule, announcement of compliance date.

SUMMARY: In this document, the Federal Communications Commission (FCC) announces that the Office of Management and Budget (OMB) has approved, for a period of three years, the information collections associated with certain rules adopted in the Seventh Report and Order, in WP Docket No. 07-100; FCC 23-3. This document is consistent with the Seventh Report and Order, which directs the Public Safety and Homeland Security Bureau and the Wireless Telecommunications Bureau to publish a document in the Federal Register announcing a compliance date for the rule section and revise the rule accordingly.

DATES:

Effective Date: December 9, 2024.

Compliance Date: Compliance with 47 CFR 90.1207(e) and (f) published at 88 FR 12565 on February 28, 2023, is required as of December 9, 2024.

ADDRESSES: Federal Communications Commission, 45 L St. NE, Washington, DC 20554.

FOR FURTHER INFORMATION CONTACT: Brian Marenco of the Public Safety and Homeland Security Bureau, at (202) 418-0838 or Brian.Marenco@fcc.gov. For additional information concerning the Paperwork Reduction Act information collection requirements contact Nicole Ongele at (202) 418-2991 or via email: Nicole.Ongele@fcc.gov.

SUPPLEMENTARY INFORMATION: This document announces that OMB approved the information collection requirements in § 90.1207(e) and (f) on September 7, 2023. This rule section was adopted in the Commission's Seventh Report and Order, in WP Docket No. 07-100; FCC 23-3, published at 88 FR 12565, February 28, 2023. In this Seventh Report and Order, the Commission adopted a proposal to collect more granular data on public safety deployments in the 4.9 GHz band. The Commission also decided to continue using the Universal Licensing System (ULS) as the licensing database for public safety operations in the 4.9 GHz band. The Commission directed the Public Safety and Homeland Security Bureau and the Wireless Telecommunications Bureau (collectively the Bureaus) to make any necessary enhancements to ULS and obtain any necessary review under the Paperwork Reduction Act, and announce by a notice when ULS is prepared to accept the granular data specified in § 90.1207(e) and (f) on public safety operations in the 4.9 GHz band. The Commission also directed the Bureaus to announce the compliance date for § 90.1207(e) and (f) by a subsequent notice and to cause § 90.1207(g) to be revised accordingly. ULS will be prepared to accept the granular data on December 9, 2024. Therefore, consistent with instructions from the Seventh Report and Order, this document revises § 90.1207 by adding compliance dates to paragraph (g) which states that compliance with paragraphs (e) and (f) is not required until paragraph (g) is updated. The Commission publishes this document as a compliance date of the rule. If you have any comments on the burden estimates listed below, or how the Commission can improve the collections and reduce any burdens cause thereby, please contact Nicole Ongele, Federal Communications Commission, 45 L Street NE, Washington, DC 20554. Please include OMB Control Number, 3060-1312, in your correspondence. The Commission will also accept your comments via email at PRA@fcc.gov.

Synopsis

As required by the Paperwork Reduction Act of 1995 (44 U.S.C. 3507), the FCC is notifying the public that it received final OMB approval on September 7, 2023, for the information collection requirements contained in § 90.1207(e) and (f).

Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in this rule is 3060-1312.

The foregoing notice is required by the Paperwork Reduction Act of 1995, Public Law 104-13, October 1, 1995, and 44 U.S.C. 3507.

The total annual reporting burdens and costs for the respondents are as follows:

OMB Control Number: 3060-1312.

OMB Approval Date: September 7, 2023.

OMB Expiration Date: September 30, 2026.

Title: Sections 90.1207(e) through (f), Amendment of Part 90 of the Commission's Rules.

Form Number: N/A.

Respondents: State, Local, or Tribal Governments.

Number of Respondents and Responses: 3,871 respondents; 3,871 responses.

Estimated Time per Response: 16-160 hours.

Frequency of Response: On occasion reporting requirement.

Obligation to Respond: Required to obtain or retain benefits. Statutory authority for this collection is contained in 47 U.S.C. 154(i), 161, 303(g), 303(r), 332(c)(7), and 1401-1473 of the Communications Act of 1934.

Total Annual Burden: 592,288 hours.

Total Annual Cost: $14,882,400.

Needs and Uses: On January 18, 2023, the Commission released a Seventh Report and Order in WP Docket No. 07-100 which adds new § 90.1207(e) and (f) to the Commission's rules requiring incumbent public safety licensees and public safety applicants in the 4940-4990 MHz (4.9 GHz) band to submit granular technical data into the Commission's Universal Licensing System (ULS). Section 90.1207(e) requires applicants seeking to license new or modify existing facilities to submit granular technical data on their proposed operations into ULS. Section 90.1207(f) requires incumbent licensees to perform a one-time submission into ULS of the granular data specified in paragraph (e) for their existing operations and gives incumbent licensees at least a one-year period to complete this one-time collection.

List of Subjects in 47 CFR Part 90

Private Land Mobile Radio Services.

Federal Communications Commission.
Katura Jackson,
Federal Register Liaison Officer.

Final Rules

For the reasons discussed in the preamble, the Federal Communications Commission amends 47 CFR part 90 as follows:

PART 90—PRIVATE LAND MOBILE RADIO SERVICES

1. The authority citation for part 90 continues to read as follows:

Authority: 47 U.S.C. 154(i), 161, 303(g), 303(r), 332(c)(7), 1401-1473.

2. Amend § 90.1207 by revising paragraph (g) to read as follows:

§ 90.1207 Licensing.

* * * * *

(g) Compliance with paragraphs (e) and (f) in this section shall be required as of December 9, 2024. The deadline for submissions for licensees subject to paragraph (f) in this section is Monday, June 9, 2025.

[FR Doc. 2024-26893 Filed 12-6-24; 8:45 am]

BILLING CODE 6712-01-P